NUCLEAR REGULATORY COMMISSION

Application To Amend a License To Export a Utilization Facility

Pursuant to 10 CFR 110.70(b)(1) “Public notice of receipt of an application,” please take notice that the Nuclear Regulatory Commission has received the following request for an amendment to an export license. Copies of the request are available electronically through ADAMS and can be accessed through the Public Electronic Reading Room (PERR) link http://www.nrc.gov/reading-rm.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

In its review of applications and license amendments involving exports of a utilization facility as defined in 10 CFR part 110 and noticed herein, the Commission does not evaluate the health, safety or environmental effects in the recipient nation of the facility or facilities to be exported. The information concerning the application follows.

NRC Application To Amend a License To Export a Utilization Facility

Description of Material
Name of applicant; date of application; date received; Application No.; Docket No. | Description of facility | End use | Country of destination
Westinghouse Electric Company; April 16, 2007; April 17, 2007; XR169/01; 11005472 | Amendment to change one of the ultimate consignees for two AP1000 pressurized water reactors from the Yang Jiang site to the Haiyang site and to revise the list of U.S. parties to the export | Electricity generation | People's Republic of China.

For the Nuclear Regulatory Commission.
Dated this 8th day of May 2007 at Rockville, Maryland.
Janice Dunn Lee,
Director, Office of International Programs.

[FR Doc. E7-9414 Filed 5-15-07; 8:45 am]

BILLING CODE 7590-01-P